DEPARTMENT OF COMMERCE

Bureau of Industry and Security

Proposed Information Collection; Comment Request; Miscellaneous Short Supply Activities

AGENCY: Bureau of Industry and Security, Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before May 1, 2015.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Mark Crace, (202) 482-8093, Mark.Crace@bis.doc.gov.

SUPPLEMENTARY INFORMATION:

I. Abstract

This information collection is comprised of two rarely used short supply activities: “Registration of U.S. Agricultural Commodities for Exemption From Short Supply Limitations on Export” (USAG), and “Petitions for the Imposition of Monitoring or Controls on Recyclable Metallic Materials (Petitions); Public Hearings.” These activities are statutory in nature and, therefore, must remain a part of BIS's active information collections.

II. Method of Collection

Submitted electronically or on paper.

III. Data

OMB Control Number: 0694-0102.

Form Number: None.

Type of Review: Regular submission (extension of a current information collection).

Affected Public: Business or other for profit organizations.

Estimated Number of Respondents: 2.

Estimated Time per Response: USAG, 30 minutes; and Petitions, 100 hours.

Estimated Total Annual Burden Hours: 5.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: February 25, 2015.
Glenna Mickelson,
Management Analyst, Office of the Chief Information Officer.

[FR Doc. 2015-04259 Filed 2-27-15; 8:45 am]

BILLING CODE 3510-22-P